DEPARTMENT OF HOUSING AND URBAN DEVELOPMENT

[Docket No. Docket No. FR-4491-N-04]

Draft SEQRA/NEPA Environmental Impact Report/Environmental Impact Statement (EIR/EIS); City of Yonkers, NY; Affordable Housing Ordinance (AHO) Mandated By a 1988 Federal Long-Term Plan Order

AGENCY: Office of the Assistant Secretary for Community Planning and Development, HUD.

ACTION: Notice.

SUMMARY: The Department of Housing and Urban Development gives this notice to the public that the City of Yonkers, New York, intends to prepare an Environmental Impact Report/Environmental Impact Statement (EIR/EIS) for a proposed apartment project located at 1105-1135 Warburton Avenue containing 524 units, 58 units (11% of the total units) of which are intended to be affordable housing.

This notice is in accordance with regulations of the Council on Environmental Quality as described in 40 CFR parts 1500-1508. Federal agencies having jurisdiction by law, special expertise, or other special interest should report their interests and indicate their readiness to aid in the EIR/EIS efforts as a “Cooperating Agency”. Particularly solicited is information on reports or other environmental studies planned or completed in the project area, major issues and dates which the EIR/EIS should consider and recommend mitigation measures and alternatives associated with the proposed project.

A Draft EIR/EIS will be completed and pubished about June 30, 2000 for the proposed action described herein. Comments relating to the Draft EIR/EIS are requested and will be accepted by the contact person listed below. When the Draft EIR/EIS is completed, a notice will be sent to individuals and groups known to be interested in the Draft EIR/EIS. Any person or agency interested in receiving a notice and making comment on the Draft EIR/EIS should contact the person listed below.

ADDRESSES: All interested agencies, groups and persons are invited to submit written comments on the within-named project and the Draft EIR/EIS to: Lee Ellman, Planning Director, Department of Planning and Development, City of Yonkers, 87 Nepperhan Avenue, Suite 311, Yonkers, New York, 10701, (914) 377-6558. Comments pertaining to the proposed project should be received by the person and office named above within 15 days of the publication of this notice in order for all comments to be considered in the preparation of the Draft EIR/EIS.

SUPPLEMENTARY INFORMATION: The City of Yonkers, acting on behalf of the U.S. Department of Housing and Urban Development will prepare an EIR/EIS to analyze the potential impacts of developing a 4.6 acre property, located on the west side of Warburton Avenue, north of Odell Avenue. The proposed project would include 524 units of housing with a 2-building rental apartment complex. It is proposed that 58, studio, one and two bedroom affordable units will be mixed with market rate units.

Amenities of the complex are to include a fitness center, swimming pool, a club room and enclosed parking for use by residents. The entire building is expected to be 597,380 square feet in size with 705 parking spaces.

A 0.91 acre portion is wetland. On site mitigation is expected to retain a portion of the wetland. Off site mitigation will create additional wetland areas. Both of these actions will be subject to approval by the Army Corps of Engineers under application number 1999-10770-YN.

The project is expected to take advantage of 80/20 Program tax exempt financing and federal tax credits to offset the loss of revenue from the affordable housing units.

Need for the EIS

It has been determined that the project may constitute an action significantly affecting the quality of the human environment and an Environmental Impact Report/Environmental Impact Statement will be prepared by the City of Yonkers in accordance with the National Environmental Policy Act of 1969 (Pub. L. 91-190) on such project.

Responses to this notice will be used to:

1. Determine significant environmental issues

2. Identify data which the EIS/EIR should address, and,

3. Identify agencies and other parties which will participate in the EIR/EIS process and the basis for their involvement.

This notice is in accordance with the regulations of Housing and Urban Development under its rule (HUD Title 24, Part 58, Subpart G, Section 58.55) and of the Council on Environmental Quality under its rule (40 CFR part 1500-1508).

Scoping

This notice is part of the process used for scoping the EIR/EIS. Responses will help determine the significant environmental issues, identify data which the EIR/EIS should address, and help identify cooperating agencies.

A scoping session to determine the issues of the Draft EIR/EIS was opened on March 23, 2000. The closing of the scoping session will not be less than fifteen (15) days after the publication of this notice.

The Draft EIR/EIS will be published on or about June 30, 2000 and will be on file, and available for public inspection, at the address listed above. Copies may also be obtained upon request at the same address.

This notice shall be in effect for one year. If one year after the publication of the Notice in the Federal Register a Draft EIS has not been filed on the project, then the Notice for that project shall be cancelled. If the Draft EIS is expected more than one year after the publication of this Notice, a new updated Notice shall be published.

Dated: May 5, 2000.
Richard H. Broun,
Director, Office of Community Viability.

[FR Doc. 00-11751 Filed 5-10-00; 8:45 am]

BILLING CODE 4210-29-P